DEPARTMENT OF THE INTERIOR

National Park Service

[NPS-WASO-DPOL-15242; PPWODIREP0][PPMPSPD1Y.YM0000]

Notice of May 21-22, 2014, Meeting of the National Park System Advisory Board

AGENCY: National Park Service, Interior.

ACTION: Meeting notice.

SUMMARY: Notice is hereby given in accordance with the Federal Advisory Committee Act, 5 U.S.C. Appendix 1-16, and Part 65 of title 36 of the Code of Federal Regulations that the National Park System Advisory Board will meet May 21-22, 2014, in Mesa Verde, Colorado. The agenda will include the review of proposed actions regarding the National Historic Landmarks (NHL) Program. Interested parties are encouraged to submit written comments and recommendations that will be presented to the Board. Interested parties also may attend the board meeting and upon request may address the Board concerning an area's national significance.

DATES: (a) Written comments regarding any proposed National Historic Landmarks matter listed in this notice will be accepted by the National Park Service until May 23, 2014. (b) The Board will meet on May 21-22, 2014.

ADDRESSES: The meeting will be held in Recreation Hall at Mesa Verde National Park, 1 Ruins Road, Mesa Verde, Colorado 81330; telephone (970) 529-4465.

Agenda: On the morning of May 21, the Board will convene its business meeting at 8:15 a.m., Mountain Daylight Time, and adjourn for the day at 12:15 p.m. The Board will tour Mesa Verde National Park in the afternoon. On May 22, the Board will reconvene at 9:00 a.m., and adjourn at 3:00 p.m. During the course of the two days, the Board may be addressed by National Park Service Director Jonathan Jarvis and briefed by other National Park Service officials regarding education, leadership development, philanthropy, NPS urban initiatives, and science; deliberate and make recommendations concerning National Historic Landmarks Program proposals; and receive status briefings on matters pending before committees of the Board.

FOR FURTHER INFORMATION CONTACT: (a) For information concerning the National Park System Advisory Board or to request to address the Board, contact Shirley Sears, Office of Policy, National Park Service, 1849 C Street NW., MS 3315, Washington, DC 20240, telephone (202) 354-3955, email Shirley_Sears@nps.gov. (b) To submit a written statement specific to, or request information about, any National Historic Landmarks matter listed below, or for information about the National Historic Landmarks Program or National Historic Landmarks designation process and the effects of designation, contact J. Paul Loether, Chief, National Register of Historic Places and National Historic Landmarks Program, National Park Service, 1849 C Street, NW., (2280), Washington, DC 20240, email Paul_Loether@nps.gov.

SUPPLEMENTARY INFORMATION: Matters concerning the National Historic Landmarks Program will be considered by the Board at the morning session of the business meeting on May 22 during which the Board may consider the following:

Nominations for NHL Designations

Florida

• The Research Studio (Maitland Art Center), Maitland, FL

Indiana

• Duck Creek Aqueduct, Metamora, Franklin County, IN

Louisiana

• The St. Charles Line, New Orleans, LA

Maine

• Eagle Island (Admiral Robert E. Peary Summer Home), Harpswell, ME

• Perkins Homestead, Newcastle, ME

Massachusetts

• Lydia Pinkham House, Lynn MA

Michigan

• General Motors Technical Center, Warren, MI

New Jersey

• Baltusrol Golf Club, Springfield, NJ

Vermont

• Brown Bridge, Rutland County, VT

Proposed Amendments to Existing Designation

Pennsylvania

• Andrew Wyeth Studio and Kuerner Farm, Chadds Ford Township, PA (Updated documentation, boundary expansion, and name change)

Proposed Withdrawals of Designation

Virginia

• Eight-Foot High Speed Tunnel, Hampton (City), VA

• Full Scale 30- x 60-Foot Tunnel, Hampton (City), VA

The board meeting will be open to the public. The order of the agenda may be changed, if necessary, to accommodate travel schedules or for other reasons. Space and facilities to accommodate the public are limited and attendees will be accommodated on a first-come basis. Anyone may file with the Board a written statement concerning matters to be discussed. The Board also will permit attendees to address the Board, but may restrict the length of the presentations, as necessary to allow the Board to complete its agenda within the allotted time. Before including your address, telephone number, email address, or other personal identifying information in your comment, you should be aware that your entire comment—including your personal identifying information—may be made publicly available at any time. While you may ask us in your comment to withhold your personal identifying information from public review, we cannot guarantee that we will be able to do so.

Draft minutes of the meeting will be available for public inspection about 12 weeks after the meeting in the 12th floor conference room at 1201 I Street NW., Washington, DC.

Dated: March 19, 2014.
Alma Ripps,
Chief, Office of Policy.

[FR Doc. 2014-06420 Filed 3-21-14; 8:45 am]

BILLING CODE 4310-EE-P